DEPARTMENT OF ENERGY

Federal Energy Regulatory Commission

[Project No. 2420-059]

PacifiCorp; Notice of Intent To Prepare an Environmental Assessment

On March 28, 2022, PacifiCorp filed an application for a major, new license for the 30-megawatt Cutler Hydroelectric Project (Cutler Project; FERC No. 2420). The Cutler Project is located on the Bear River in Box Elder and Cache Counties, Utah. No federal or tribal lands occur within the project boundary or along the Bear River downstream of the project. There are three parcels of land located in Cutler Canyon adjacent to the project boundary that are administered by the Bureau of Land Management.

In accordance with the Commission's regulations, on July 6, 2022, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to relicense the Cutler Project.

The EA will be issued and circulated for review by all interested parties. All comments filed on the EA will be analyzed by staff and considered in the Commission's final licensing decision.

The application will be processed according to the following schedule. Revisions to the schedule may be made as appropriate.

Milestone | Target date
Commission issues draft EA | February 2023.
Comments on draft EA | April 2023.
Commission issues final EA | August 2023.¹

Any questions regarding this notice may be directed to Khatoon Melick at (202) 502-8433 or khatoon.melick@ferc.gov.

¹ The Council on Environmental Quality's (CEQ) regulations under 40 CFR 1501.10(b)(1) require that EAs be completed within 1 year of the federal action agency's decision to prepare an EA. This notice establishes the Commission's intent to prepare a draft and final EA for the Cutler Project. Therefore, in accordance with CEQ's regulations, the final EA must be issued within 1 year of the issuance date of this notice.

Dated: August 18, 2022.
Kimberly D. Bose,
Secretary.

[FR Doc. 2022-18230 Filed 8-23-22; 8:45 am]

BILLING CODE 6717-01-P